NATIONAL AERONAUTICS AND SPACE ADMINISTRATION

[Notice (00-076)]

NASA Advisory Council (NAC), Aero-Space Technology Advisory Committee, Goals Subcommittee; Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Goals Subcommittee.

DATES: Monday, August 14, 2000, 8:30 a.m. to 4 p.m.

ADDRESSES: National Aeronautics and Space Administration, Room 9H40, 300 E Street, SW, Washington, DC 20546.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

—Review of the Revised Office of Aerospace Technology (OAT) Goals & Objectives

—Planning for the Aerospace Transportation System After Next

—Analysis of the OAT FY 00 Progress Towards the Goals

—Strategy for the FY 01 Review of Progress Towards the Goals

It is imperative that the meeting be held on these dates to accommodate the scheduling priorities of the key participants.

Dated: July 3, 2000.
Matthew M. Crouch,
Advisory Committee Management Officer, National Aeronautics and Space Administration.

[FR Doc. 00-17303 Filed 7-7-00; 8:45 am]

BILLING CODE 7510-01-P